ENVIRONMENTAL PROTECTION AGENCY

[FRL-9121-5]

Notice of Meeting of the EPA's Children's Health Protection Advisory Committee (CHPAC)

AGENCY: Environmental Protection Agency (EPA).

ACTION: Notice of meeting.

SUMMARY: Pursuant to the provisions of the Federal Advisory Committee Act, Public Law 92-463, notice is hereby given that the next meeting of the Children's Health Protection Advisory Committee (CHPAC) will be held March 24-25, 2010 at the Melrose Hotel, 2430 Pennsylvania Ave, NW., Washington, DC, 20037. The CHPAC was created to advise the Environmental Protection Agency on science, regulations, and other issues relating to children's environmental health.

DATES: The CHPAC will meet March 24-25, 2010.

ADDRESSES: 2430 Pennsylvania Avenue, NW., Washington, DC 20037

FOR FURTHER INFORMATION CONTACT: Martha Berger, Office of Children's Health Protection, USEPA, MC 1107A, 1200 Pennsylvania Avenue, NW., Washington, DC 20460, (202) 564-2191, berger.martha@epa.gov.

SUPPLEMENTARY INFORMATION: The meetings of the CHPAC are open to the public. The CHPAC will meet on Wednesday, March 24 from 8:30 a.m. to 5 p.m. and Thursday from 9 a.m. to 12:30 p.m. Agenda items include EPA's Schools Siting Guidelines, the America's Children and the Environment Report, a presentation from the National Commission on Disasters, and outdoor air monitoring near schools.

Access and Accommodations: For information on access or services for individuals with disabilities, please contact Martha Berger at 202-564-2191 or berger.martha@epa.gov, at least 10 days prior to the meeting.

Dated: February 25, 2010.
Martha Berger,
Designated Federal Official.

U.S. Environmental Protection Agency

Children's Health Protection Advisory Committee, Melrose Hotel, Potomac Rooms I, II, and III, 2430 Pennsylvania Avenue Northwest, Washington, DC 20037, (202) 955-6400. Potomac Rooms I, II, and III, March 24 and 25, 2010.

Draft Agenda

Wednesday, March 24

8:30-8:35 Review Meeting Agenda,

8:35-9 Welcome and Introductions,

9-9:20 Orientation to Federal Advisory Groups and CHPAC

9:20-9:50 Charge to CHPAC

9:50-10:15 Highlights of Office of Children's Health Protection Activities

10:15-10:30 Break

10:30-11:30 National Commission on Disasters and Children Report

11:30-12 Indoor Air Quality

12 1:30 Lunch

1:30-2:15 America's Children and the Environment Update

2:15-3:15 Presentation of the School Siting Task Group Report

3:15-3:30 Break

3:30-4:30 Draft School Siting Task Group Letter to Administrator

4:30 Public Comment

5 Adjourn

Thursday, March 25

9-9:15 Check in and Agenda Review

9:15-9:45 Rulemaking Gateway Demonstration

9:45-10:45 Finalize School Siting Task Group Letter to Administrator

10:45-11 Break

11-12 Air Toxics Monitoring Initiative Update

12-12:30 Review Discussions, Decisions, and Possible Next Steps

12:30 Adjourn

[FR Doc. 2010-4305 Filed 3-1-10; 8:45 am]

BILLING CODE 6560-50-P